DEPARTMENT OF DEFENSE

Department of the Navy

[Docket ID: USN-2017-HQ-0002]

Proposed Collection; Comment Request

AGENCY: Commander, Navy Installations Command, DoD.

ACTION: Notice.

SUMMARY: In compliance with the Paperwork Reduction Act of 1995, Commander, Navy Installations Command announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 25, 2017.

ADDRESSES: You may submit comments, identified by docket number and title, by any of the following methods:

• Federal eRulemaking Portal: http://www.regulations.gov. Follow the instructions for submitting comments.

• Mail: Department of Defense, Office of the Deputy Chief Management Officer, Directorate for Oversight and Compliance, Regulatory and Advisory Committee Division, 4800 Mark Center Drive, Mailbox #24, Suite 08D09B, Alexandria, VA 22350-1700.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the following:

Navy: Commander, Navy Installations Command, 716 Sicard St SE., ATTN: N3 Anti-Terrorism/Force Protection Branch, Washington Navy Yard, DC 20374.

Marine Corps: Headquarters, Marine Corps, ATTN: Law Enforcement and Corrections Branch, Security Division, Plans, Policies and Operations (PP&O), 3000 Pentagon, Room 4A324, Washington, DC 20350-3000.

SUPPLEMENTARY INFORMATION:

Title; Associated Form; and OMB Number: Law Enforcement Officers Safety Act (LEOSA); Department of the Navy Law Enforcement Officers Safety Act Credential Application (LEOSA); OMB Control Number 0703-XXXX.

Needs and Uses: To verify eligibility of current DON Law enforcement officers for assigned duties and to determine if reassignment, reclassification, detail or other administrative action is warranted based on an officer's ability to obtain or maintain credential qualification requirements. To verify and validate eligibility of current, separating or separated and retired DON law enforcement officers to ship, transport, possess or receive Government-issued or private firearms or ammunition.

To verify and validate eligibility of current, separating or separated, and retired DON law enforcement officers to receive DON endorsed law enforcement credentials, to include LEOSA credentials. The information is captured for administrative, mission support and law enforcement/legal use; if required. The information collected allows the Department of the Navy to effectively and efficiently process, validate, issue and track LEOSA applications and issuances.

Affected Public: Individuals or households.

Annual Burden Hours: 450.

Number of Respondents: 900.

Responses per Respondent: 1.

Annual Responses: 900.

Average Burden per Response: 0.50 hrs.

Frequency: On occasion.

Respondents are retired or separated Department of the Navy Law Enforcement Officers who qualify for the credentials of the LEOSA program. The Department of the Navy Law Enforcement Officers Safety Act (LEOSA) Credential Application form is used to collect, verify and validate qualifications of the applicant. If the application form is not submitted in conjunction with the appropriate documentation, the individuals reviewing the application cannot validate the qualifications of the applicant. This process is essential to ensuring only validated qualified law enforcement officials are issued the credentials.

Dated: May 23, 2017.
Aaron Siegel,
Alternate OSD Federal Register Liaison Officer, Department of Defense.

[FR Doc. 2017-10860 Filed 5-25-17; 8:45 am]

BILLING CODE 5001-06-P